DEPARTMENT OF THE INTERIOR

Fish and Wildlife Service

[FWS-R8-ES-2019-N077; FXES11140800000-190-FF08EVEN00]

Los Osos Habitat Conservation Plan; Environmental Assessment and Receipt of Application; Community of Los Osos, San Luis Obispo County, California

AGENCY: Fish and Wildlife Service, Interior.

ACTION: Notice of availability; request for comments.

SUMMARY: We, the U.S. Fish and Wildlife Service, have received an application from the County of San Luis Obispo for an incidental take permit under the Endangered Species Act of 1973, as amended. The permit, if issued, would authorize take of the federally endangered Morro shoulderband snail (Helminthoglypta walkeriana) and Morro Bay kangaroo rat (Dipodomys heermanni morroensis) and provide assurances for the federally endangered Indian Knob mountainbalm (Eriodictyon altissimum) and federally threatened Morro manzanita (Arctostaphylos morroensis). We invite public comment on the draft habitat conservation plan and a draft environmental assessment prepared in accordance with the National Environmental Policy Act of 1969, as amended.

DATES: We will receive public comments on the draft habitat conservation plan and draft environmental assessment until November 18, 2019.

ADDRESSES:

Obtaining Documents: You may download a copy of the draft HCP and draft EA at http://www.fws.gov/ventura/ or you may request copies of the documents by U.S. mail (below) or by phone (see FOR FURTHER INFORMATION CONTACT).

Submitting Written Comments: Please send your written comments using one of the following methods:

• U.S. Mail: Stephen P. Henry, Field Supervisor, Ventura Fish and Wildlife Office, U.S. Fish and Wildlife Service, 2493 Portola Road, Suite B, Ventura, CA 93003.

• Email: julie_vanderwier@fws.gov.

FOR FURTHER INFORMATION CONTACT: Leilani Takano, Assistant Field Supervisor, by phone at 805-677-3330, via the Federal Relay Service at 1-800-877-8339 for TTY assistance, or at the Ventura address (see ADDRESSES).

SUPPLEMENTARY INFORMATION: The County of San Luis Obispo (applicant) has applied to the U.S. Fish and Wildlife Service (Service) for an incidental take permit (ITP) under section 10(a)(1)(B) of the Endangered Species Act of 1973, as amended (ESA; 16 U.S.C. 1531 et seq.). The applicant is requesting an ITP with a 25-year term, for incidental take of two animal species likely to result from implementation of activities covered by the applicant's habitat conservation plan (HCP), and seeking assurances for two plant species. The permit, if issued, would authorize take of the federally endangered Morro shoulderband snail (Helminthoglypta walkeriana) and Morro Bay kangaroo rat (Dipodomys heermanni morroensis) and provide assurances for the federally endangered Indian Knob mountainbalm (Eriodictyon altissimum) and federally threatened Morro manzanita (Arctostaphylos morroensis). Pursuant to the National Environmental Policy Act of 1969, as amended (NEPA; 42 U.S.C. 4321 et seq.), we advise the public of the availability of the proposed HCP and our draft environmental assessment (EA).

Background

Section 9 of the ESA prohibits the take of fish or wildlife species listed as endangered; by regulation, the Service may extend the take prohibition to fish or wildlife species listed as threatened. “Take” is defined under the ESA to include the following activities: “[T]o harass, harm, pursue, hunt, shoot, wound, kill, trap, capture, or collect, or to attempt to engage in any such conduct” (16 U.S.C. 1532); however, under section 10(a)(1)(B) of the ESA, we may issue permits to authorize incidental take of listed species. The ESA defines “incidental take” as take that is incidental to, and not the purpose of, carrying out of an otherwise lawful activity. Regulations governing incidental take permits for threatened and endangered species are in the Code of Federal Regulations (CFR) at 50 CFR 17.32 and 17.22, respectively. Under the ESA, protections for federally listed plants differ from the protections afforded to federally listed animals. Issuance of an incidental take permit also must not jeopardize the existence of federally listed fish, wildlife, or plant species. The Permittee would receive assurances under our “No Surprises” regulations (50 CFR 17.22(b)(5)) and 17.32(b)(5)) regarding conservation activities for the Morro shoulderband snail, Morro Bay kangaroo rat, Indian Knob mountainbalm, and Morro manzanita.

The proposed HCP includes measures intended to avoid, minimize, and mitigate take of the Morro shoulderband snail and Morro Bay kangaroo rat and impacts to Indian Knob mountainbalm and Morro manzanita (covered species) expected to occur incidental to otherwise lawful covered activities.

The applicant is requesting coverage for incidental take and impacts resulting from the following categories of covered activities:

1. Private development (new construction, remodels, defensible space),

2. Capital improvement projects,

3. Facilities operation and maintenance projects,

4. Community wildfire protection plan, and

5. Conservation program.

Incidental take or impacts to the covered species resulting from the covered activities would be restricted to the 3,200-acre (ac) permit area, which includes the majority of Los Osos, an unincorporated community in western San Luis Obispo County. The permit area excludes all existing State park lands, with the exception of approximately 5 ac contiguous with Elfin Forest Reserve. Covered activities could result in the loss of up to 532 ac of habitat for the covered species present within the permit area.

The proposed conservation program includes species-specific avoidance and minimization measures and the establishment of a preserve system for the covered species. The preserve system would be subject to monitoring, management, and protection in perpetuity. The conservation program would remain in step with take/impacts, and the assembly of the preserve system would occur throughout the permit term.

National Environmental Policy Act Compliance

The EA analyzes the effects to the human environment for three project alternatives: No action, proposed action, and reduced take.

Under the No-Action alternative, the Service would not issue the ITP and there would be no implementation of the HCP. Operation and maintenance of existing infrastructure facilities would continue, as long as take of Morro shoulderband snail and Morro Bay kangaroo rat would not result from these activities. Any new development, including private development and capital improvement projects, with the potential to result in take of either animal species would need to seek authorization on an individual basis.

Under the Proposed Action alternative, the Service would issue the ITP and the County would implement the HCP that addresses the covered species and covered activities. The maximum extent of area affected would be 532 ac within the permit area.

Under the Reduced Take alternative, the Service would issue the ITP and the County would implement the HCP that addresses the proposed covered species and covered activities. While the permit area and permit term would remain the same, the maximum area affected would be 266 ac, which represents 50 percent of the maximum amount under the Proposed Action alternative. There would be a commensurate reduction in conservation actions.

Public Review

If you wish to comment on the draft HCP and draft EA, you may submit comments by one of the methods in ADDRESSES.

Any comments we receive will become part of the decision record associated with this action. Before including your address, phone number, email address, or other personal identifying information in your comment, please be aware that your entire comment—including your personal identifying information—may be made publicly available at any time. While you can request in your comment that we withhold your personal identifying information from public review, we cannot guarantee that we will be able to do so.

Authority

We provide this notice under section 10 of the ESA (16 U.S.C. 1531 et seq.) and NEPA regulations (40 CFR 1506.6).

Stephen P. Henry,
Field Supervisor, Ventura Fish and Wildlife Office, Ventura, California.

[FR Doc. 2019-21339 Filed 10-1-19; 8:45 am]

BILLING CODE 4333-15-P